DEPARTMENT OF COMMERCE

National Oceanic and Atmospheric Administration

[I.D. 091306C]

Western Pacific Fishery Management Council; Public Meeting

AGENCY: National Marine Fisheries Service (NMFS), National Oceanic and Atmospheric Administration (NOAA), Commerce.

ACTION: Notice of public meeting.

SUMMARY: The Western Pacific Fishery Management Council (Council) will hold a public meeting to gather public comments on options to research and manage shark viewing operations in federal waters around Hawaii.

DATES: The meeting will be held on Thursday October 5, 2006, from 6 p.m. to 9 p.m.

ADDRESSES: The meeting will be held at the Haleiwa Elementary School, 66-505 Haleiwa Rd., Haleiwa, HI 96712.

Council address: Western Pacific Fishery Management Council, 1164 Bishop Street, Suite 1400, Honolulu, HI.

FOR FURTHER INFORMATION CONTACT: Kitty M. Simonds, Executive Director; telephone: (808) 522-8220; fax: (808) 522-8226.

SUPPLEMENTARY INFORMATION: In 2001, commercial shark viewing operations began providing and promoting services to swim, dive and snorkel with sharks off the North Shore of Oahu. The operations essentially consist of deploying a protective cage into the water into which individuals enter while sharks swim freely outside of the cage. To keep sharks near the cage for viewing, tour operators often introduce chum (i.e. fish parts) into the water. In 2002, citing concerns of the risk to human safety, particularly, the potential increased risk of shark attacks on individuals not involved in shark feeding operations, the State of Hawaii promulgated regulations prohibiting the feeding of sharks for commercial purposes in state marine waters from 0 to three miles from shore. As a result of the State's law, commercial shark tour operations relocated into federal waters beyond three miles from shore where there are no rules or regulations in place to control this activity.

Currently, the commercial shark viewing operations occur three to four miles offshore of Haleiwa, HI in waters approximately 400 to 600 feet in depth. The precise locations are marked by buoys deployed by the tour operators. Species of sharks encountered during these operations include the galapagos shark (Carcharhinus galapagensis), the sandbar shark (Carcharhinus plumbeus), the hammerhead shark (Sphyrna spp.) and occasionally grey reef sharks (Carcharhinus amblyrhynchos) and tiger sharks (Galeocerdo cuvier).

Presently, information on the effects of commercial shark viewing operations on shark behavior and ecology, fish habitat and other user groups are largely anecdotal. As a result, there remains great uncertainty regarding the potential impacts to humans as well as to shark populations and the health of the marine ecosystem in this area.

The Council will convene a public meeting to gather public comments on options to research and manage shark viewing operations in federal waters around Hawaii. These include but are not limited to: (1) Conducting research on shark movement and behavior and population numbers in and around the North Shore of Oahu; (2) Recommending the State of Hawaii establish a moratorium on any new shark tour operations; (3) Establishing federal regulations for shark tour operations such as prohibiting or limiting the amount of chum that may be used, requiring shark tour operations to move further offshore, limiting the number of shark tour operations; and (4) Banning on shark viewing operations in federal waters.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Kitty M. Simonds, (808) 522-8220 (voice) or (808) 522-8226 (fax), at least 5 days prior to the meeting date.

Authority: 16 U.S.C. 1801 et seq.

Dated: September 14, 2006.
Tracey L. Thompson,
Acting Director, Office of Sustainable Fisheries, National Marine Fisheries Service.

[FR Doc. E6-15527 Filed 9-18-06; 8:45 am]

BILLING CODE 3510-22-S